ENVIRONMENTAL PROTECTION AGENCY

[FRL-6569-8]

Agency Information Collection Activities: Submission for OMB Review; Comment Request; Application Requirements for the Approval and Delegation of Federal Air Toxics Programs to State, Territorial, Local and Tribal Agencies

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Application Requirements for the Approval and Delegation of Federal Air Toxics Programs to State, Territorial, Local and Tribal Agencies, OMB Control No. 2060-0264, ICR no. 1643.04, expiration date 03/31/2000. The ICR describes the nature of the information collection and its expected burden and cost; where appropriate, it includes the actual data collection instrument.

DATES: Comments must be submitted on or before May 1, 2000.

FOR FURTHER INFORMATION CONTACT: For a copy of the ICR contact Sandy Farmer at EPA by phone at (202) 260-2740, by email at farmer.sandy@epamail.epa.gov, or download off the Internet at http://www.epa.gov/icr and refer to EPA ICR No. 1643.04. For technical questions about the ICR contact Ms. Holly Reid, (919) 541-5344, or electronic mail at reid.holly@epa.gov.

SUPPLEMENTARY INFORMATION: Title: Application Requirements for the Approval and Delegation of Federal Air Toxics Programs to State, Territorial, Local and Tribal Agencies (OMB Control No. 2060-0264, EPA ICR No. 1643.04) expiring 03/31/2000. This is a request for extension of a currently approved collection.

Abstract: A rule developed under the authority of section 112 of the Clean Air Act, as amended in 1990, calls for us, EPA, to “publish guidance that would be useful to States [also Territorial, local and Tribal agencies (S/L/T)] in developing programs * * * allowing for delegation of the Administrator's authorities and responsibilities to implement and enforce emissions standards and prevention requirements.” The intent of this voluntary program is to encourage S/L/T to accept delegation of the Federal section 112 standards, and to allow them to adjust or substitute S/L/T requirements when they can be shown to be at least as stringent as the Federal requirements. These provisions for alternatives will help preserve existing S/L/T programs and prevent dual regulation of sources.

The ICR reflects the approval process codified in 40 CFR 63, subpart E, which we proposed to amend on January 12, 1999 (64 FR 1880). Under the amended process, the S/L/T can select one of five delegation options to implement and enforce the Federal section 112 rule, requirement, or program.

This collection of information is authorized under 42 U.S.C. 7401-7671q. We will safeguard any information we obtain for which a claim of confidentiality is made according to our policies outlined in title 40, chapter 1, part 2, subpart B, Confidentiality of Business Information.

Note that an agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information, was published on October 29, 1999 (64 FR 58401); no comments were received.

Burden Statement: The annual public reporting and recordkeeping burden for this collection of information is estimated to average 29 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 127.

Estimated Number of Respondents: 127.

Frequency of Response: 4,555.

Estimated Total Annual Hour Burden: 130,198 hours.

Estimated Total Annualized Capital and Operating & Maintenance Cost Burden: $5.3.

Send comments on the Agency's need for this information, the accuracy of the provided burden estimates, and any suggested methods for minimizing respondent burden, including through the use of automated collection techniques to the following addresses. Please refer to EPA ICR No. 1643.04 and OMB Control No. 2060-0264 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: March 20, 2000.
Oscar Morales,
Director, Collection Strategies Division.

[FR Doc. 00-7994 Filed 3-30-00; 8:45 am]

BILLING CODE 6560-50-P